DEPARTMENT OF TRANSPORTATION

Pipeline and Hazardous Materials Safety Administration

Hazardous Materials: Notice of Applications for New Special Permits

AGENCY: Pipeline and Hazardous Materials Safety Administration (PHMSA), DOT.

ACTION: List of applications for special permits.

SUMMARY: In accordance with the procedures governing the application for, and the processing of, special permits from the Department of Transportation's Hazardous Material Regulations, notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before May 8, 2020.

ADDRESSES: Record Center, Pipeline and Hazardous Materials Safety Administration U.S. Department of Transportation Washington, DC 20590.

Comments should refer to the application number and be submitted in triplicate. If confirmation of receipt of comments is desired, include a self-addressed stamped postcard showing the special permit number.

FOR FURTHER INFORMATION CONTACT: Donald Burger, Chief, Office of Hazardous Materials Approvals and Permits Division, Pipeline and Hazardous Materials Safety Administration, U.S. Department of Transportation, East Building, PHH-30, 1200 New Jersey Avenue Southeast, Washington, DC 20590-0001, (202) 366-4535.

SUPPLEMENTARY INFORMATION: Copies of the applications are available for inspection in the Records Center, East Building, PHH-30, 1200 New Jersey Avenue Southeast, Washington DC or at http://regulations.gov.

This notice of receipt of applications for special permit is published in accordance with part 107 of the Federal hazardous materials transportation law (49 U.S.C. 5117(b); 49 CFR 1.53(b)).

Issued in Washington, DC, on April 2, 2020.
Donald P. Burger,
Chief, General Approvals and Permits Branch.

Special Permits Data
Application No. | Applicant | Regulation(s) affected | Nature of the special permits thereof
21012-N | Praxair Distribution, Inc | 172.203(a), 180.209 | To authorize the transportation in commerce DOT 3AA cylinders that have been re-qualified using 100% UE examination in lieu of internal visual inspection and hydrostatic pressure testing as prescribed at paragraph § 180.209(a). Each cylinder successfully passing requalification using 100% UE examination will have its retest interval extended to at least once every 15 years. (modes 1, 2, 3, 4).
21014-N | Volvo Cars Of North America, LLC |  | To authorize the transportation in commerce of lithium ion batteries exceeding 35 kg net weight by cargo-only aircraft. (mode 4).
21015-N | Amazon.com, Inc | 172.203(a), 172.315(a)(2), 177.834(b) | To authorize the transportation in commerce of materials shipped under limited quantity exceptions with a reduced size limited quantity marking. (modes 1, 2, 3).
21018-N | Packaging And Crating Technologies, LLC | 172.200, 172.300, 172.400, 172.600, 172.700(a), 173.185(b), 173.185(c) | To authorize the manufacture, mark, sale, and use of specially designed packagings for the transportation in commerce of damaged, defective, or recalled lithium ion cells, batteries and these cells and batteries contained in or packed with equipment. (modes 1, 2).
21019-N | Halpern Import Company | 173.308(c)(2) | To authorize the transportation in commerce of lighters in non-DOT specification packaging by private or contract motor carrier, or by common carrier in a motor vehicle under exclusive use, between manufacturing sites, distribution centers and retail outlets. (mode 1).
21022-N | Webasto Roof & Components Se | 172.101(j), 173.185(a) | To authorize the transportation in commerce of untested lithium ion batteries that exceed 35 kg by cargo-only aircraft. (mode 4).
21023-N | Tire Seal, Inc | 173.306(a)(3)(v) | To authorize the transportation in commerce of receptacles, containing refrigerant gases that have not been subjected to the hot water bath test. (modes 1, 2, 3, 4, 5).
21024-N | Spaceflight, Inc | 172.101(j), 173.185(a) | To authorize the transportation in commerce of low production lithium batteries contained in equipment that exceed 35 kg by cargo-only aircraft. (mode 4).
21027-N | Fiba Technologies, Inc | 180.207(d)(1) | To authorize the transportation in commerce of seamless steel UN pressure receptacles that have been requalified in accordance with ISO 18119:2018. (modes 1, 2, 3, 4).

[FR Doc. 2020-07368 Filed 4-7-20; 8:45 am]

BILLING CODE 4909-60-P